DEPARTMENT OF HEALTH AND HUMAN SERVICES

National Institutes of Health

National Library of Medicine; Amended Notice of Meeting

Notice is hereby given of a change in the meeting of the Literature Selection Technical Review Committee, October 22-23, 2020, 8:30 a.m. to 5:00 p.m., video assisted meeting, which was published in the Federal Register on August 5, 2020, 85 FR 151, Page 47391.

This notice is being amended to change the meeting dates from October 22-23, 2020 to October 21-22, 2020. This meeting will be a video assisted meeting. The videocast link is https://videocast.nih.gov/.

Dated: August 13, 2020.
Ronald J. Livingston, Jr.,
Program Analyst, Office of Federal Advisory Committee Policy.

[FR Doc. 2020-18057 Filed 8-18-20; 8:45 am]

BILLING CODE 4140-01-P